NATIONAL FOUNDATION ON THE ARTS AND THE HUMANITIES

National Endowment for the Arts

Arts Advisory Panel

Pursuant to Section 10(a)(2) of the Federal Advisory Committee Act (Pub. L. 92-463), as amended, notice is hereby given that thirteen meetings of the Arts Advisory Panel to the National Council on the Arts will be held at the Nancy Hanks Center, 1100 Pennsylvania Avenue, NW., Washington, DC 20506 as follows (ending times are approximate):

Arts Education (application review): November 1-4, 2011 in Room 716. This meeting, from 9 a.m. to 5:30 p.m. on November 1st-3rd and from 9 a.m. to 3 p.m. on November 4th, will be closed.

Music (application review): November 1-3, 2011 in Room 714. This meeting, from 9 a.m. to 5:30 p.m. on November 1st-2nd and from 9 a.m. to 4:30 p.m. on November 3rd, will be closed.

Presenting (application review): November 1-2, 2011 in Room 627. This meeting, from 9 a.m. to 5:30 p.m. on November 1st and from 9 a.m. to 3:45 p.m. on November 2nd, will be closed.

Media Arts (application review): November 2-3, 2011 in Room 730. This meeting, from 9 a.m. to 5:30 p.m. on November 2nd and from 9 a.m. to 4:30 p.m. on November 3rd, will be closed.

Presenting (application review): November 3-4, 2011 in Room 627. This meeting, from 9 a.m. to 5:30 p.m. on November 3rd and from 9:00 a.m. to 4:45 p.m. on November 4th, will be closed.

Dance (application review): November 7-8, 2011 in Room 716. This meeting, from 9 a.m. to 6 p.m. both days, will be closed.

Local Arts Agencies (application review): November 8-9, 2011 in Room 730. This meeting, from 9 a.m. to 5:30 p.m. on November 8th and from 9 a.m. to 2:30 p.m. on November 9th, will be closed.

Folk and Traditional Arts (application review): November 8-10, 2011 in Room 627. This meeting, from 9 a.m. to 5:30 p.m. on November 8th-9th, and from 9 a.m. to 4 p.m. on November 10th, will be closed.

Theater (application review): November 8-10, 2011 in Room 714. This meeting, from 9 a.m. to 5:30 p.m. on November 8th, from 9 a.m. to 6 p.m. on November 9th and from 9 a.m. to 3 p.m. on November 10th, will be closed.

Dance (application review): November 9, 2011 in Room 716. This meeting, from 9 a.m. to 6 p.m., will be closed.

Arts Education (application review): November 14-15, 2011 in Room 716. This meeting, from 9 a.m. to 6 p.m. on November 14th and from 9 a.m. to 4:30 p.m. on November 15th, will be closed.

Museums (application review): November 15-17, 2011 in Room 627. This meeting, from 9 a.m. to 5:30 p.m. on November 15th, from 9 a.m. to 6 p.m. on November 16th and from 9 a.m. to 2 p.m. on November 17th, will be closed.

Music (application review): November 15-18, 2011 in Room 714. This meeting, from 9 a.m. to 5:30 p.m. on November 15th-17th and from 9 a.m. to 4:30 p.m. on November 18th, will be closed.

The closed portions of meetings are for the purpose of Panel review, discussion, evaluation, and recommendations on financial assistance under the National Foundation on the Arts and the Humanities Act of 1965, as amended, including information given in confidence to the agency. In accordance with the determination of the Chairman of February 15, 2011, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of AccessAbility, National Endowment for the Arts, 1100 Pennsylvania Avenue, NW., Washington, DC 20506, 202-682-5532, TDY-TDD 202-682-5496, at least seven (7) days prior to the meeting.

Further information with reference to these meetings can be obtained from Ms. Kathy Plowitz-Worden, Office of Guidelines & Panel Operations, National Endowment for the Arts, Washington, DC 20506, or call 202-682-5691.

Dated: October 6, 2011.
Kathy Plowitz-Worden,
Panel Coordinator, Panel Operations, National Endowment for the Arts.

[FR Doc. 2011-26421 Filed 10-12-11; 8:45 am]

BILLING CODE 7537-01-P